ARCTIC RESEARCH COMMISSION

Arctic Research Commission; Meeting

Notice is hereby given that the U.S. Arctic Research Commission will hold its 90th meeting in Kotzebue, AK on September 14-16, 2009. The Business Session, open to the public, will convene at 9:30 a.m. Monday, September 14, 2009 in Kotzebue, AK. An Executive Session will follow adjournment of the Business Session.

The Agenda items include:

(1) Call to order and approval of the Agenda.

(2) Approval of the Minutes of the 89th Meeting.

(3) Commissioners and Staff Reports.

(4) Discussion of Arctic research related activities in and around Kotzebue.

The focus of the meeting will be reports and updates on programs and research projects affecting the Arctic.

Any person planning to attend this meeting who requires special accessibility features and/or auxiliary aids, such as sign language interpreters, must inform the Commission in advance of those needs.

Contact Person for More Information: John Farrell, Executive Director, U.S. Arctic Research Commission, 703-525-0111 or TDD 703-306-0090.

John Farrell,
Executive Director.

[FR Doc. E9-20185 Filed 8-24-09; 8:45 am]

BILLING CODE 7555-01-M